DEPARTMENT OF THE INTERIOR

Fish and Wildlife Service

[Docket No. FWS-HQ-IA-2017-0083; FXIA16710900000-156-FF09A30000]

Foreign Endangered Species; Marine Mammal Issuance of Permits

AGENCY: Fish and Wildlife Service, Interior.

ACTION: Notice of issuance of permits.

SUMMARY: We, the U.S. Fish and Wildlife Service, have issued permits to conduct activities with foreign endangered and/or threatened species, marine mammals, or both, under the authority of the Endangered Species Act, as amended (ESA). With some exceptions, the ESA prohibits activities involving listed species unless a Federal permit is issued that allows such activity.

ADDRESSES: Information about the applications for the permits listed in this notice is available online at www.regulations.gov. See SUPPLEMENTARY INFORMATION for details.

FOR FURTHER INFORMATION CONTACT: Joyce Russell, 703-358-2023.

SUPPLEMENTARY INFORMATION: We, the U.S. Fish and Wildlife Service, have issued permits to conduct certain activities with endangered and threatened species in response to permit applications that we received under the authority of section 10(a)(1)(A) of the Endangered Species Act of 1973 (16 U.S.C. 1531 et seq.; and or the Marine Mammal Protection Act as amended (16 U.S.C. 1361 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table:

Endangered Species

Applicant | Permit No. | Permit issuance date
Memphis Zoo | 10014C | 9/22/2017
Wildlife & Environmental Conservation | 29610C | 9/28/2017
Robert Earl Anderson, Jr. | 30893C | 10/4/2017
Arnulfo Rodriguez | 20528C | 10/5/2017
Sal Davino | 21334C | 10/5/2017

Marine Mammal

Applicant | Permit No. | Permit issuance date
BBC Natural History Unit | 53019C | 1/4/2018

Authorities

We issue this notice under the authority of the ESA, as amended (16 U.S.C. 1531 et seq.) and the Marine Mammal Protection Act as amended (16 U.S.C. 1361 et seq.).

Joyce Russell,
Government Information Specialist, Branch of Permits, Division of Management Authority.

[FR Doc. 2018-05326 Filed 3-15-18; 8:45 am]

BILLING CODE 4333-15-P